DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before January 8, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on December 1, 2020.
Donald P. Burger,
Chief, General Approvals and Permits Branch.

Application No. | Applicant | Regulation(s) affected | Nature of the special permits thereof
Special Permits Data—Granted
11380-M | Baker Hughes Oilfield Operations LLC | 173.302(a)(1) | To modify the special permit to authorize an improved design of the cylinders.
13250-M | Pacific Consolidated Industries LLC | 173.302(a)(1) | To modify the special permit to authorize an extension of cylinder life utilizing the Modal Acoustic Emission (MAE) test method.
14509-M | Pacific Consolidated Industries LLC | 173.302(a), 173.302(f)(3), 173.302(f)(4), 173.302(f)(5), 173.304(a), 175.501(e)(3) | To modify the special permit to authorize an extension of cylinder life utilizing the Modal Acoustic Emission (MAE) test method.
16560-M | Lightstore, Inc | 173.302(a) | To modify the special permit to authorize additional 2.1 and 2.2 hazmat and to authorize an increase in the allowable maximum working pressure of certain cylinders.
20973-M | Olin Winchester LLC | 172.203(a), 173.63(b)(2)(v) | To modify the special permit to remove the requirement for carrying a copy of the permit on each vessel, aircraft or motor vehicle transporting packages covered by the permit.
21014-N | Volvo Cars of North America, LLC |  | To authorize the transportation in commerce of lithium ion batteries exceeding 35 kg net weight by cargo-only aircraft.
21059-N | Union Pacific Railroad Company Inc | 172.203(a), 174.24, 174.26(a) | To authorize the use of electronic means to maintain and communicate on-board train consist information in lieu of paper documentation when hazardous materials are transported by rail.
21063-N | Cobham Mission Systems Orchard Park Inc | 173.302(a)(1) | To authorize the transportation in commerce of certain gases in non-refillable, non-DOT specification cylinders.
21067-N | Stainless Tank & Equipment Co., LLC | 172.203(a), 178.345-2, 178.346-2, 178.347-2, 178.348-2 | To authorize the manufacture, mark, sale, and use of DOT 400 series cargo tanks fabricated using certain stainless steels and other materials not authorized as materials of construction by § 178.345-2.
21084-N | Samsung SDI America, Inc | 172.101(j) | To authorize the transportation in commerce of lithium batteries in excess of 35 kg by cargo-only aircraft.
21085-N | Omron Robotics and Safety Technologies, Inc | 172.101(j), 173.185(b)(3) | To authorize the transportation in commerce of certain lithium batteries in alternative packaging and exceeding 35 kg aboard cargo-only aircraft.
21104-N | Kelley Fuels, Inc | 172.336(c) | To authorize the transportation in commerce of cargo tanks containing either gasoline or diesel fuel with a placard permanently marked with a “1203” UN number identification mark.
21130-N | Tatonduk Outfitters Limited | 175.9(b) | To authorize the acceptance and transportation in commerce of hazardous materials to be used for zero-gravity research experiments conducted aboard the aircraft during parabolic flight operations for from the point of origin airport to the return of the aircraft to that same airport.
21131-N | Department of Defense US Army Military Surface Deployment & Distribution Command | 173.185(a), 173.185(e)(6) | To authorize the transportation in commerce of low production lithium ion batteries that have not passed the required tests in the UN Manual of Tests and Criteria.
21132-N | Northwest Energetic Services LLC | 173.56(a) | To authorize the transportation in commerce of bags of explosives which are marked with an incorrect EX number.
21138-N | LG Chem, Ltd | 173.185(f)(3) | To authorize the transportation in commerce aboard motor vehicle of defective lithium-ion batteries in 4G fiberboard outer boxes that were used to transport replacement batteries.
Special Permits Data—Denied
20245-M | Jaguar Instruments Inc | 173.302(a), 173.304(a) | To modify the special permit to update reporting procedure, update cylinder design drawings and incorporate ICAO references to the permit.
Special Permits Data—Withdrawn
15689-M | Mercedes-Benz Research & Development North America, Inc | 172.200, 172.301(c), 177.834(h) | To modify the permit to authorize a larger cylinder to be utilized in the test equipment.
21121-N | Mountain Flame Propane, Inc | 173.315(j)(2)(iv) | To authorize the transportation in commerce of more than one container of liquid propane gas on a motor vehicle.

[FR Doc. 2020-27017 Filed 12-8-20; 8:45 am]

BILLING CODE 4910-60-P